DEPARTMENT OF THE INTERIOR

Bureau of Land Management

[LLMT926000-10-L98200000-BJ0000-LXCSMT010000]

Notice of Filing of Plats of Survey; Montana

AGENCY: Bureau of Land Management, Interior.

ACTION: Notice of Filing of plats of survey.

SUMMARY: The Bureau of Land Management (BLM) will file the plat of survey of the lands described below in the BLM Montana State Office, Billings, Montana, on February 17, 2011.

DATES: Protests of the survey must be filed before February 17, 2011 to be considered.

ADDRESSES: Protests of the survey should be sent to Branch of Cadastral Survey, Bureau of Land Management, 5001 Southgate Drive, Billings, Montana 59101-4669.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the U.S. Forest Service, Region 1, Missoula, Montana, and was necessary to determine boundaries of the Federal interest lands. The lands we surveyed are:

Principal Meridian, Montana

T. 28 N., R. 23 W.

T. 27 N., R. 24 W.

The plat, in one sheet, representing the survey of an island (Tract 37), Township 28 North, Range 23 West, Principal Meridian, Montana, was accepted December 28, 2010.

The plat, in one sheet, representing the survey of an island (Tract 37), Township 27 North, Range 24 West, Principal Meridian, Montana, was accepted December 28, 2010.

We will place a copy of the plats, in two sheets, and related field notes in the open files. They will be available to the public as a matter of information. If the BLM receives a protest against this survey, as shown on these plats, in two sheets, prior to the date of the official filing, we will stay the filing pending our consideration of the protest. We will not officially file these plats, in two sheets, until the day after we have accepted or dismissed all protests and they have become final, including decisions or appeals.

Authority: 43 U.S.C. Chap. 3.

Dated: January 7, 2011.
James D. Claflin,
Chief Cadastral Surveyor, Division of Resources.

[FR Doc. 2011-894 Filed 1-14-11; 8:45 am]

BILLING CODE 4310-DN-P